DEPARTMENT OF HOMELAND SECURITY

Coast Guard

33 CFR Part 117

[Docket No. USCG-2018-0573]

Drawbridge Operation Regulation; Curtis Creek, Baltimore, MD

AGENCY: Coast Guard, DHS.

ACTION: Notice of deviation from drawbridge regulation.

SUMMARY: The Coast Guard has issued a temporary deviation from the operating schedule that governs the I695 Bridge across Curtis Creek, mile 1.0, at Baltimore, MD. The deviation is necessary to facilitate maintenance. This deviation allows the bridge to remain in the closed-to-navigation position.

DATES: This deviation is effective from 7 a.m. on June 18, 2018, to 7 p.m. on June 29, 2018.

ADDRESSES: The docket for this deviation, [USCG-2018-0573] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard; telephone (757) 398-6222, email Hal.R.Pitts@uscg.mil.

SUPPLEMENTARY INFORMATION: The Cianbro Corporation, on behalf of the Maryland Transportation Authority, owner and operator of the I695 Bridge across Curtis Creek, mile 1.0, at Baltimore, MD, has requested a temporary deviation from the current operating schedule to accommodate maintenance. The current operating regulation is set out in 33 CFR 117.557.

Under this temporary deviation, the east bascule draw of the north span will be maintained in closed-to-navigation position and the west bascule draw of the north span will be maintained in the open-to-navigation position from 7 a.m. on June 18, 2018, through 7 p.m. on June 29, 2018. The south span will open on signal if at least a one-hour notice is given. At all other times the bridge will operate per 33 CFR 117.557. During the closure of the east bascule draw of the north span, the I695 Bridge will provide 100 feet of horizontal clearance and unlimited vertical clearance in the open position and 200 feet of horizontal clearance and 58 feet of vertical clearance above mean high water in the closed position.

Curtis Creek is used by military vessels, recreational vessels, tug and barge traffic, fishing vessels, and small commercial vessels. The Coast Guard has carefully considered the nature and volume of vessel traffic on the waterway and coordinated with maritime stakeholders in publishing this temporary deviation.

Vessels able to pass through the bridge in the closed position or with the east bascule draw of the north span in the closed position may do so at any time. The bridge will be able to open on signal for emergency or urgent vessel transits from 7 a.m. to 7 p.m., Monday through Saturday, if at least a one-hour notice is given; and from 7 p.m. to 7 a.m., and from 7 a.m. to 7 p.m. on Sunday, June 24, 2018, if at least a four-hour notice is given. There is no immediate alternate route for vessels unable to pass through the bridge in the closed position or with the east bascule draw of the north span in the closed position. The Coast Guard will also inform the users of the waterways through our Local and Broadcast Notice to Mariners of the change in operating schedule for the bridge so that vessel operators can arrange their transits to minimize any impact caused by this temporary deviation.

In accordance with 33 CFR 117.35(e), the drawbridge must return to its regular operating schedule immediately at the end of this effective period of this temporary deviation. This deviation from the operating regulations is authorized under 33 CFR 117.35.

Dated: June 12, 2018.
Hal R. Pitts,
Bridge Program Manager, Fifth Coast Guard District.

[FR Doc. 2018-12915 Filed 6-15-18; 8:45 am]

BILLING CODE 9110-04-P